DEPARTMENT OF THE INTERIOR

Bureau of Land Management

[UT-030-06-1610-PH-241A]

Grand Staircase-Escalante National Monument Advisory Committee: Call for Nominations

AGENCY: Bureau of Land Management (BLM), Department of the Interior.

ACTION: Notice of call for nominations for members of the Grand Staircase-Escalante National Monument Advisory Committee (GSENMAC).

SUMMARY: The purpose of this notice is to request public nominations for seven members of the Grand Staircase-Escalante National Monument Advisory Committee (GSENM-MAC). The GSENM-MAC provides advice and recommendations to GSENM on science issues and the achievement of Grand Staircase-Escalante National Monument Management Plan objectives. GSENM will receive public nominations for 30 days from the date this notice is posted.

DATES: A completed nomination form and accompanying nomination letters must be received at the address listed below no later than 30 days from the date this notice is posted.

ADDRESSES: Grand Staircase-Escalante National Monument Headquarters Office, 190 East Center, Kanab, Utah 84741.

FOR FURTHER INFORMATION CONTACT: Contact Larry Crutchfield, Public Affairs Officer, GSENM Headquarters Office, 190 East Center, Kanab, Utah 84741; phone (435) 644-4310, or e-mail larry_crutchfield@blm.gov.

SUPPLEMENTARY INFORMATION: The Secretary of the Interior established the GSENM-MAC pursuant to section 309 of the Federal Land Policy and Management Act (FLPMA) of 1976 (43 U.S.C. 1739) and in conformity with the Federal Advisory Committee Act (FACA) of 1972 (5 U.S.C. Appendix 2). The 17 appointed members of the GSENM-MAC perform several primary tasks: (1) Review evaluation reports produced by the Management Science Team and make recommendations on protocols and projects to meet overall objectives. (2) Review appropriate research proposals and make recommendations on project necessity and validity. (3) Make recommendations regarding allocation of research funds through review of research and project proposals as well as needs identified through the evaluation process above. (4) Could be consulted on issues such as protocols for specific projects.

The Secretary appoints persons to the GSENM-MAC who are representatives of the various major citizen interests pertaining to land use planning and management of the lands under BLM management in GSENM. This notice, published pursuant to 43 CFR 1784.4-1 and in accordance with the Approved Management Plan for Grand Staircase-Escalante National Monument (February 2000), requests the public to submit nominations to fill seven vacant positions on the committee. Any individual or organization may nominate one or more persons to serve on the GSENM-MAC. Individuals may nominate themselves for GSENM-MAC membership.

Nomination forms may be obtained from the Grand Staircase-Escalante National Monument Headquarters Office, (address listed above). To make a nomination, submit to the Headquarters Office a letter of nomination, a completed nomination form, letters of reference from the represented interests or organizations associated with the interest represented by the candidate, and any other information that speaks to the candidate's qualifications.

Nominations may be made for the following categories of interest:

• A member with expertise in archaeology;

• A member with expertise in paleontology;

• A member with expertise in systems ecology;

• A livestock grazing permittee operating within the Monument to represent grazing permittees;

• An outfitter and guide operating within the Monument to represent commercial recreational users;

• A representative of the motorized recreational community; and

• A representative of the non-motorized recreational community.

The specific category the nominee would be representing should be identified in the letter of nomination and in the nomination form. The Utah BLM State Director and Monument Manger will review the nomination forms and letters of reference. The State Director shall confer with the Governor of the State of Utah on potential nominations. The BLM State Director will then forward recommended nominations to the Secretary of the Interior who has responsibility for making the appointments.

Each GSENM-MAC member will be a person who, as a result of training and experience, has knowledge or special expertise which qualifies him or her to provide advice from among the categories of interest listed above. As appropriate, certain committee members may be appointed as Special Government Employees. Special Government Employees serve on the committee without compensation, and are subject to financial disclosure requirements in the Ethics in Government Act and 5 CFR part 2634.

All members of the GSNEM-MAC are appointed for terms of 3 years. The new appointments to these seven positions will begin no earlier than March 1, 2007, and will end February 28, 2010.

Members will serve without monetary compensation, but will be reimbursed for travel and per diem expenses at current rates for Government employees. The Committee will meet at least twice a year. Additional meetings may be called by the Designated Federal Officer.

Dated: October 16, 2006.
Brad Exton,
Grand Staircase-Escalante National Monument Manager.

[FR Doc. 06-8820 Filed 10-19-06; 8:45 am]

BILLING CODE 4310-DQ-M